DEPARTMENT OF COMMERCE

International Trade Administration

[A-570-891]

Hand Trucks and Certain Parts Thereof from the People's Republic of China: Notice of Postponement of Time Limits for New Shipper Antidumping Duty Review in Conjunction with Administrative Review

AGENCY: Import Administration, International Trade Administration, Department of Commerce.

SUMMARY: On May 1, 2006, in accordance with 19 CFR 351.214(j)(3), Since Hardware (Guangzhou) Co., Ltd. (Since Hardware) agreed to waive the time limits in section 351.214(i) of the Department of Commerce's (the Department's) regulations so that the Department may conduct the new shipper review of hand trucks and certain parts thereof (hand trucks) from the People's Republic of China (PRC), for the period December 1, 2004, through November 30, 2005, concurrently with the administrative review for the same period. Therefore, we will conduct the administrative and new shipper reviews concurrently.

EFFECTIVE DATE: May 31, 2006.

FOR FURTHER INFORMATION CONTACT: Elizabeth Eastwood or Nichole Zink, Import Administration, International Trade Administration, U.S. Department of Commerce, 14th Street and Constitution Avenue, NW., Washington, DC 20230; telephone (202) 482-3874 or (202) 482-0049, respectively.

SUPPLEMENTARY INFORMATION:

Background

On December 30, 2005, Gleason Industrial Products, Inc. and Precision Products, Inc. (the petitioners) requested an administrative review of several companies. Between December 30, 2005, and January 3, 2006, the Department received several additional administrative review requests from certain PRC exporters and one U.S. importer of subject merchandise. On February 1, 2006, the Department initiated the first administrative review of the antidumping duty order on hand trucks from the PRC. See Initiation of Antidumping and Countervailing Duty Administrative Reviews and Request for Revocation in Part, 71 FR 5241 (February 1, 2006).

On February 3, 2006, the Department initiated a new shipper review on Since Hardware, pursuant to its request for a new shipper review filed on December 27, 2005. See Hand Trucks and Certain Parts Thereof From the People's Republic of China; Initiation of New Shipper Review, 71 FR 5810 (Feb. 3, 2006). The Department received a letter from Since Hardware on May 1, 2006, pursuant to 19 CFR 351.214(j)(3), to: (i) waive the time limits for the new shipper review of the antidumping duty order on hand trucks and (ii) allow the Department to conduct Since Hardware's new shipper review concurrently with the separate administrative review of the order on hand trucks and certain parts thereof.

Postponement of New Shipper Review

Pursuant to 19 CFR 351.214(j)(3) and Since Hardware's letter, we will conduct this new shipper review concurrently with the December 1, 2004, through November 30, 2005, administrative review of hand trucks from the PRC. Therefore, the preliminary results of the antidumping new shipper review, as well as the administrative review, will be due 245 days from December 31, 2005, the last day of the anniversary month of the order. See section 751 (a)(3)(A) of the Tariff Act of 1930 (as amended) (the Act) and 19 CFR 351.213(h). Thus, the deadline for the preliminary results of this new shipper review, as well as the administrative review, is September 5, 2006. This notice is issued and published pursuant to sections 751(a)(2) and 771(i) of the Act, and 19 CFR 351.214(j)(3).

Dated: May 24, 2006.
Stephen J. Claeys,
Deputy Assistant Secretary for Import Administration

[FR Doc. E6-8386 Filed 5-30-06; 8:45 am]

BILLING CODE 3510-DS-S